DEPARTMENT OF LABOR

Mine Safety and Health Administration

30 CFR Part 50

Administrative Changes

AGENCY: Mine Safety and Health Administration (MSHA), Labor.

ACTION: Final rule.

SUMMARY: We are amending our regulations to: reflect organizational changes and updated filing procedures; correct clerical errors; and make conforming changes to rule text.

EFFECTIVE DATE: May 13, 2004.

FOR FURTHER INFORMATION CONTACT: Marvin W. Nichols, Jr., Director, Office of Standards, Regulations, and Variances, MSHA, 1100 Wilson Blvd., Room 2313, Arlington, Virginia 22209-3939, Nichols-Marvin@msha.gov, (202)693-9440 (telephone), (202)693-9441 (facsimile). This rule is available in alternative formats, such as large print, and is also available at http://www.msha.gov, under “Rules and Regs.”

SUPPLEMENTARY INFORMATION:

A. Background

This final rule updates 30 CFR part 50 to reflect current mailing addresses and office closings. Additionally, the final rule recognizes our practice of providing the public with electronic access to forms and allowing mine operators to submit reports electronically. Finally, the rule corrects errors and makes a conforming change in the rule text.

Because this final rule deals with agency management and procedures, the notice and comment provisions of the Administrative Procedure Act do not apply pursuant to 5 U.S.C. 553(a)(2) and (b)(3)(A), and the usual 30-day delay in the effective date is not required.

B. Paperwork Reduction Act Statement

This final rule does not contain a new or amended information collection requirement subject to the Paperwork Reduction Act of 1995 (44 U.S.C. 3501 et seq.).

C. E.O. 12866 Regulatory Planning and Review

This final rule is not a “regulatory action” under section 3 of Executive Order 12866 and has not been reviewed by the Office of Management and Budget. The rule is an administrative action reflecting organizational and procedural changes in a federal agency. Because the rule is limited to agency organization and management, it falls within the exclusion set forth in section 3(d)(3) of the Executive Order.

D. Unfunded Mandates Reform Act

For purposes of the Unfunded Mandates Reform Act of 1995, this rule does not include any Federal mandate that may result in increased expenditures by State, local, or tribal governments, or by the private sector.

List of Subjects in 30 CFR Part 50

Investigations, Mine safety and health, Reporting and record keeping requirements.

Accordingly, Chapter I of Title 30 of the Code of Federal Regulations is amended as follows:

PART 50—NOTIFICATION, INVESTIGATION, REPORTS AND RECORDS OF ACCIDENTS, INJURIES, ILLNESSES, EMPLOYMENT, AND COAL PRODUCTION IN MINES

1. The authority citation for Part 50 continues to read as follows:

Authority: 29 U.S.C. 577a; 30 U.S.C. 951, 957, 961.

§ 50.2 [Amended]

2. In § 50.2(h), the comma after the term “Accident means” is removed.

§ 50.10 [Amended]

3. In § 50.10:

a. In the first sentence, the phrase “or Subdistrict” is removed.

b. In the second sentence, the phrase “or Subdistrict” is removed.

§ 50.11 [Amended]

4. In § 50.11(a), in the first sentence, the phrase “or Subdistrict” is removed.

5. In § 50.11(b)(8), the word “ocurrence” is changed to “occurrence.”

§ 50.12 [Amended]

6. In § 50.12, the phrase “or Subdistrict” is removed.

§ 50.20 [Amended]

7. In § 50.20(a):

a. In the second sentence, the phrase “MSHA Metal and Nonmetal Mine Safety and Health District Offices and from MSHA Coal Mine Safety and Health Subdistrict Offices” is revised to read “the MSHA District Office.”

b. In the last sentence, the phrase “5 through 11” is revised to read “5 through 12.”

§ 50.20-1 [Amended]

8. In § 50.20-1:

a. In the second sentence, the phrase “Denver Safety and Health Technology Center” is revised to read “MSHA Office of Injury and Employment Information.”

b. In the third sentence, the phrase “or Subdistrict” is removed.

c. In the fifth sentence, the phrase “Denver Safety and Health Technology Center” is revised to read “MSHA Office of Injury and Employment Information.”

d. At the end of the paragraph, add “You may also submit reports by facsimile, 888-231-5515. To file electronically, follow the instructions on the MSHA Internet site, http://www.msha.gov. For assistance in electronic filing, contact the MSHA help desk at 877-778-6055.”

§ 50.20-4 [Amended]

9. In § 50.20-4(a), in the second sentence, the phrase “Health and Safety District of Subdistrict office” is revised to read “District Office.”

§ 50.20-6 [Amended]

10. In § 50.20-6(b)(7)(ii), the term “Disease” is revised to read “Diseases.”

11. In § 50.20-6(b)(7)(v), the term “ulta-violet” is revised to read “ultra-violet.”

§ 50.30 [Amended]

12. Amend § 50.30(a) as follows:

a. In the first sentence, the phrase “Denver Safety and Health Technology Center” is revised to read “MSHA Office of Injury and Employment Information.”

b. In the second sentence, the phrase “MSHA Metal and Nonmetal Mine Safety and Health District Offices and from MSHA Coal Mine Safety and Health Subdistrict Offices” is revised to read “the MSHA District Office.”

c. At the end of the paragraph, add “You may also submit reports by facsimile, 888-231-5515. To file electronically, follow the instructions on the MSHA Internet site at http://www.msha.gov. For assistance in electronic filing, contact the MSHA help desk at 877-778-6055.”

§ 50.30-1 [Amended]

14. In § 50.30-1(a), in the second sentence, the phrase “Health and Safety District or Subdistrict” is revised to read “District.”

Dated: May 7, 2004.
Dave D. Lauriski,
Assistant Secretary of Labor for Mine Safety and Health.

[FR Doc. 04-10872 Filed 5-12-04; 8:45 am]

BILLING CODE 4510-43-P